DEPARTMENT OF HEALTH AND HUMAN SERVICES

[Document Identifier OS-0990-new]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before November 15, 2021.

ADDRESSES: Submit your comments to Sherrette.Funn@hhs.gov or by calling (202) 795-7714.

FOR FURTHER INFORMATION CONTACT: When submitting comments or requesting information, please include the document identifier 0990-New-60D and project title for reference, to Sherrette A. Funn, email: Sherrette.Funn@hhs.gov, or call (202) 795-7714, the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: The Health Education and Relationships for Teens Study.

Type of Collection: New.

OMB No. 0990-NEW—Office of Population Affairs/OASH.

Abstract: The Office of Population Affairs (OPA), U.S. Department of Health and Human Services (HHS) is requesting 3 years of approval by OMB on a new collection. The Health Education and Relationships for Teens Study (HEARTS) is expected to be a large, multischool random assignment evaluation of the Love Notes curriculum, a popular relationship education curriculum that is widely implemented among federal teen pregnancy prevention and sexual risk avoidance education grantees. The purpose of HEARTS is to provide evidence of effectiveness of the Love Notes curriculum by examining the impacts of Love Notes on youth outcomes such as knowledge about healthy relationships, self-efficacy and motivation to engage in healthy behaviors, interpersonal communication skills, sexual risk behaviors, and health. The study will be conducted in approximately 40 schools, with half randomly assigned to deliver Love Notes to high school youth in health or other classes and the other half in the control condition with business as usual health programming. Data collection activities are planned to begin in spring 2022 in approximately four to six schools, with additional schools brought into the study during the 2022-23 school year. The study will collect youth outcome surveys at baseline and at 6 months and 12 months following the completion of the program. The study will also collect extensive implementation data, including youth engagement exit ticket surveys after Love Notes sessions, focus groups with youth, program facilitator logs and attendance records, and teacher exit ticket surveys after periodic Love Notes sessions. Study staff will also interview facilitators and site leadership.

Annualized Burden Hour Table
Forms (if necessary) | Respondents (if necessary) | Number of respondents | Number of responses per respondents | Average burden per response | Total burden hours
Youth Outcome Survey Baseline | Youth | 855 | 1 | 30/60 | 428
Youth Outcome Survey—6 Month Follow-up | Youth | 727 | 1 | 30/60 | 363
Youth Outcome Survey—12 Month Follow-up | Youth | 684 | 1 | 30/60 | 342
Youth Focus Group Topic Guide | Youth | 67 | 1 | 1 | 67
Youth Engagement Exit Tickets | Youth | 450 | 13 | 2/60 | 195
Teacher Exit Tickets | Classroom teachers | 13 | 4 | 2/60 | 2
Fidelity Log | Program Facilitators | 7 | 52 | 10/60 | 58
Facilitator Interview Topic Guide | Facilitators | 7 | 1 | 1 | 7
Provider/School Leadership Interview Topic Guide | Provider/School Administrators and Staff | 53 | 1 | 1 | 53
Total |  |  | 75 |  | 1514

Sherrette A. Funn,
Paperwork Reduction Act Reports Clearance Officer, Office of the Secretary.

[FR Doc. 2021-19976 Filed 9-15-21; 8:45 am]

BILLING CODE 4150-25-P